DEPARTMENT OF AGRICULTURE

Forest Service

Modoc National Forest, California, Modoc National Forest Public Wheeled Motorized Travel Management EIS

AGENCY: Forest Service, USDA.

ACTION: Notice of Intent to prepare an Environmental Impact Statement.

SUMMARY: The Modoc National Forest (Modoc NF) will prepare an Environmental Impact Statement to disclose the impacts associated with the following proposed actions:

1. The prohibition of cross-country motorized vehicle travel (with the exception of snowmobiles) off designated NFS roads, NFS trails and areas by the public except as allowed by permit or other authorization.

2. Add approximately 339 miles of 1170 existing unauthorized routes to the current system of National Forest System (NFS) roads and motorized trails open to the public for wheeled motorized vehicle use by vehicle class, including seasonal closures on approximately 20 miles of 74 of the added routes.

3. Make the following changes to existing NFS roads:

a. Prohibit use seasonally on approximately 313 miles of 214 existing NFS roads.

b. Allow non-highway legal vehicle use on approximately 147 miles of existing NFS roads where such use is currently prohibited.

c. Close NFS road 46B29HB (road along Boles Creek between Clear Lake and Steel Swamp) to public use.

4. Amend the Modoc NF Land and Resource Management Plan (Modoc LRMP) for areas not covered under the Sierra Nevada Forest Plan Amendment by removing the objective “Keep over 87% of the Forest open to OHVs (Modoc LRMP p. 4-11)” and numerous standards and guidelines in the LRMP regarding keeping areas open for OHV use and include as a forest-wide standard “Prohibit wheeled vehicle travel off designated roads and trails except for administrative use or uses under permitted activities”.

DATES: The comment period on the proposed action will extend 30 days from the date the Notice of Intent is published in the Federal Register.

The Draft Environmental Impact Statement (DEIS) is estimated to be completed by September 30, 2008 and the Final Environmental Impact Statement (FEIS) is estimated to be completed by December 31, 2008.

ADDRESSES: Send written comments to: Travel Management Team, Modoc National Forest, 800 W 12 Street, Alturas, CA 96101. Electronic comments, in acceptable plain text (.txt), rich text (.rft), or Word (.doc) may be submitted to modoc.route.designation@fs.fed.us.

FOR FURTHER INFORMATION CONTACT: Kathleen Borovac, Modoc National Forest, 800 W 12th Street, Alturas, CA 96101. Phone: (530) 233-8754. E-mail: modoc.route.designation@fs.fed.us

SUPPLEMENTARY INFORMATION:

Background

Over the past few decades, the availability and capability of motorized vehicles, particularly off-highway vehicles (OHVs) and sport utility vehicles (SUVs) has increased tremendously. Nationally, the number of OHV users has climbed sevenfold in the past 30 years, from approximately 5 million in 1972 to 36 million in 2000. The ten states with the largest population also have the most OHV users. California has 4.35 million OHV users accounting for almost 11% of the U.S. total (Off-Highway Vehicle Recreation in the United States, Regions and States: A National Report from the National Survey on Recreation and the Environment (NSRE) Cordell, Betz, Green and Owens June 2005). There were 786,914 ATVs and OHV motorcycles registered in 2004, up 330% since 1980. Annual sales of ATVs and OHV motorcycles in California were the highest in the U.S. for the last 5 years. Four-wheel drive vehicle sales in California also increased by 1500% to 3,046,866 from 1989 to 2002.

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of “Four Key Threats Facing the Nation's Forests and Grasslands.” (USDA Forest Service, June 2004.)

On August 11, 2003, the Pacific Southwest Region of the Forest Service entered into a Memorandum of Intent (MOI) with the California Off-Highway Motor Vehicle Recreation Commission, and the Off-Highway Motor Vehicle Recreation Division of the California Department of Parks and Recreation. That MOI set in motion a region-wide effort to “ Designate OHV roads, trails, and any specifically defined open areas for motorized wheeled vehicles on maps of the 19 National Forests in California by 2007.”

On November 9, 2005, the Forest Service published final travel management regulations in the Federal Register (FR Vol. 70, No. 216—-Nov. 9, 2005, pp. 68264-68291). This final Travel Management Rule requires designation of those roads, trails, and areas that are open to motor vehicle use on National Forests. Designations will be made by class of vehicle and, if appropriate, by time of year. The final rule prohibits the use of motor vehicles off the designated system as well as use of motor vehicles on routes and in areas that are not designated.

On some NFS lands, long managed as open to cross-country motor vehicle travel, repeated use has resulted in unplanned, unauthorized, roads and trails. These routes generally developed without environmental analysis or public involvement, and do not have the same status as NFS roads and NFS trails included in the forest transportation system. Nevertheless, some unauthorized routes are well-sited, provide excellent opportunities for outdoor recreation by motorized and non-motorized users, and would enhance the National Forest system of designated roads, trails and areas. Other unauthorized routes are poorly located and cause unacceptable impacts. Only NFS roads and NFS trails can be designated for wheeled motorized vehicle use. In order for an unauthorized route to be designated, it must first be added to the forest transportation system.

In accordance with the MOI, the Modoc NF recently completed an inventory of unauthorized routes on NFS lands and identified approximately 535 miles of 1,806 unauthorized routes. The Modoc NF then used an interdisciplinary process to conduct travel analysis that included working with the public to determine whether any of the unauthorized routes should be proposed for addition to the Modoc NF transportation system. Roads and trails that are currently part of the Modoc NF transportation system and are open to wheeled motorized vehicle travel will remain designated for such use except as described below under Proposed Action. This proposal focuses only on the prohibition of wheeled motorized vehicle travel off designated routes and needed changes to the Modoc NF transportation system, including the addition of some unauthorized routes to the Modoc NF transportation system and minor changes to existing motor vehicle restrictions. Based on public comments and interdisciplinary review of the 1,806 or 535 miles of unauthorized routes, Modoc NF is proposing to add 1,170 unauthorized routes or 339 miles to the transportation system. The proposed action is being carried forward in accordance with the Travel Management Rule (36 CFR Part 212).

In accordance with the Rule, following a decision on this proposal, the Modoc National Forest will publish a Motor Vehicle Use Map (MVUM) identifying all Modoc NF roads, trails and areas that are designated for motor vehicle use. The MVUM shall specify the classes of vehicles and, if appropriate, the times of year for which use is designated. Unauthorized routes not included in this proposal may be considered for addition to the National Forest transportation system and inclusion in a MVUM at a future date. Future decisions associated with changes to the MVUM may trigger the need for documentation of environmental analysis.

Purpose and Need for Action

The following needs have been identified for this proposal:

1. There is a need for regulation of unmanaged wheeled motorized vehicle travel by the public. Currently, wheeled motorized vehicle travel by the public is not prohibited off designated routes. In their enjoyment of the National Forest, motorized vehicle users have created numerous unauthorized routes. The number of such routes continues to grow each year with many routes having environmental impacts and safety concerns that have not been addressed. The Travel Management Rule, 36 CFR Part 212, provides policy for ending this trend of unauthorized route development and managing the Forest transportation system in a sustainable manner through designation of motorized NFS roads, trails and areas, and the prohibition of cross-country travel.

2. There is a need for limited changes and additions to the Modoc NF transportation system to:

2.1. Provide wheeled motorized access to dispersed recreation opportunities (camping, hunting, fishing, hiking, horseback riding, etc.). Some known dispersed recreation use is not located directly adjacent to an existing NFS road. Rather, they are accessed mostly by short spur routes that have been created and maintained primarily by the passage of motorized vehicles. Such 'user-created' routes are not currently part of the National Forest Transportation System (NFTS). Without changes to the system and its management, the regulatory changes noted above would make continued use of such routes illegal.

2.2. Provide a diversity of wheeled motorized recreation opportunities (4X4 vehicles, motorcyles, ATVs, passenger vehicles, etc.). It is Forest Service policy to provide a diversity of road and trail opportunities for experiencing a variety of environments and modes of travel consistent with the National Forest recreation role and land capability (FSM 2353.03(2)). Without additions to the NFTS, implementation of the Travel Management Rule will severely limit motorized recreation opportunities relative to current levels.

3. There is a need for protection of heritage resources in the area along road 46B29HB (road along Boles Creek between Clear Lake and Steel Swamp) due to documented cases of vandalism of heritage resources within this area.

4. There is a need for consistency between the 2005 Travel Management Rule and the Modoc NF Land and Resource Management Plan (Modoc LRMP). In 2004, the portion of the Modoc LRMP covered under the Sierra Nevada Forest Plan Amendment (SNFPA) was amended to include Standard and Guideline #69 (SNFPA ROD, pg. 59). Standard and Guideline #69 is consistent with the 2005 Travel Management Rule because it prohibits “wheeled vehicle travel off of designated routes, trails and limited off highway vehicle (OHV) areas.” The remainder of the Modoc NF, which is not covered by the SNFPA, includes the objective “Keep over 87% of the Forest open to OHVs (Modoc LRMP p. 4-11)” and numerous other standards and guidelines in the LRMP regarding keeping areas open for OHV use. These remaining Modoc LRMP standards and guidelines are not consistent with the 2005 Travel Management Rule, which prohibits motorized vehicle use except on designated NFS roads, NFS motorized trails and areas.

It is Forest Service policy to provide a diversity of road and trail opportunities for experiencing a variety of environments and modes of travel consistent with the National Forest recreation role and land capability (FSM 2353.03(2)).

In meeting these needs the proposed action should achieve the following purposes:

A. Avoid impacts to cultural resources.

B. Provide for public safety.

C. Provide for a diversity of recreational opportunities.

D. Assure adequate access to public and private lands.

E. Provide for adequate maintenance and administration of designations based on availability of resources and funding to do so. Currently the Forest has a maintenance backlog for roads of approximately $128,053,267. Future road and trail budgets may decrease from current levels.

F. Minimize damage to soil, vegetation and other forest resources.

G. Avoid harassment of wildlife and significant disruption of wildlife habitat.

H. Minimize conflicts between wheeled motor vehicles and existing or proposed recreational uses of NFS lands.

I. Minimize conflicts among different classes of wheeled motor vehicle uses of NFS lands or neighboring federal lands.

J. Assure compatibility of wheeled motor vehicle use with existing conditions in populated areas, taking into account sound, emissions, etc.

K. Maintain valid existing rights of use and access (rights-of-way).

L. Constrain the proposal to that which is within the capability of the Forest to analyze given: 1. The national schedule for regions to publish their Forest Motor Vehicle Use Maps. For the Modoc National Forest the publication deadline is approximately March 2009. 2. Available funding (road and trail management budgets). 3. Available resources (resource data and staff time).

Proposed Action

1. The prohibition of cross-country wheeled motorized vehicle travel off designated NFS roads, NFS trails and areas by the public except as allowed by permit or other authorization.

2. Motorized Road Additions: The Modoc NF currently manages and maintains approximately 4,973 miles of NFS roads and 1.76 miles of NFS motorized trails. Based on the stated purpose and need for action, and as a result of the recent travel analysis process which included public input and an interdiscipinary evaluation of each road, the Modoc NF proposes to add 1170 existing unauthorized routes to its NFS roads. These additions equal approximately 339 miles and would raise the total NFS roads to approximately 5,312 miles. Maps and tables describing in detail both the Modoc NF transportation system and the proposed action can be found at http://www.fs.fed.us/r5/modoc. Approximately 20 miles or 74 of the added routes will have seasonal restrictions.

3. Make the following changes to existing NFS roads:

a. Add seasonal restrictions to approximately 313 miles of 214 existing NFS roads.

b. Allow non-street legal vehicle access on approximately 147 miles of existing NFS roads where such use is currently prohibited: Motor vehicle operation on National Forest System roads is subject to both federal and state laws and regulations. National Forest System (NFS) roads maintained by the Modoc NF, for travel by a prudent driver in a standard passenger car, are subject to the federal Highway Safety Act and are considered highways for purposes of the California Vehicle Code (CVC) Division 16.5. These roads are currently open to highway legal vehicles only.

c. Close NFS road 46B29HB (road along Boles Creek between Clear Lake and Steel Swamp) to public use.

4. Amend the Modoc NF Land and Resource Management Plan for areas not covered under the Sierra Nevada Forest Plan Amendment by removing the objective “Keep over 87% of the Forest open to OHVs (Modoc LRMP p. 4-11)” and numerous standards and guidelines in the LRMP regarding keeping areas open for OHV use. The list of standards and guidelines to be amended can be found on our website as stated below. Include as a forest-wide standard “Prohibit wheeled vehicle travel off designated roads and trails except for administrative use or uses under permitted activities”.

Maps and tables describing in detail both the Modoc NF transportation system and the proposed action can found at http://www.fs.fed.us/r5/modoc. In addition, maps will be available for viewing at:

1. Modoc National Forest, 800 W 12th Street, Alturas, CA 96101.

2. Warner Mountain Ranger District, 385 Wallace Street, Cedarville, CA 96104.

3. Doublehead Ranger District, 49870 Hwy 139, Tulelake, CA 96134.

4. Big Valley Ranger District, 508 Main Street, Adin, CA 96006.

Responsible Official

Stanley G. Sylva, Forest Supervisor, Modoc National Forest, 800 W 12th Street, Alturas, CA 96101.

Nature of Decision To Be Made

The responsible official will decide whether to adopt and implement the proposed action, an alternative to the proposed action, or take no action to make changes to the existing Modoc National Forest Transportation System; prohibit cross country wheeled motorized vehicle travel by the public off the designated system; and amend the Modoc LRMP, as described above. Once the decision is made, the Modoc National Forest will publish a Motor Vehicle Use Map (MVUM) identifying the roads and trails that are designated for motor vehicle use. The MVUM shall specify the classes of vehicles and, if appropriate, the times of year for which use is designated. Future decisions associated with changes to the MVUM may trigger the need for documentation of environmental analysis.

Scoping Process

Public participation will be especially important at several points during the analysis. The Forest Service will be seeking information, comments, and assistance from federal, state, and local agencies and other individuals or organizations who may be interested in or affected by the proposed action.

The Modoc National Forest met with local elected officials, Tribes, federal advisory groups, and community groups, including service and professional organizations, to discuss the Travel Management Rule and travel management on the Forest. In November 2007, public open houses were held in Cedarville, CA; Alturas, CA; Adin, CA; and Tulelake, CA to gather information about which routes the public uses and to identify routes missed in the inventory of unauthorized routes. Additionally, maps of inventoried routes were available on the Forest's Web site and Forest Service offices. The public used these maps to provide input into the process.

The Notice of Intent is expected to be published in the Federal Register on May 12, 2008. The comment period on the proposed action will extend 30 days from the date the Notice of Intent is published in the Federal Register. Public Open Houses will be held on May 19, 20, 28 and 29, in Cedarville, CA; Alturas, CA; Adin, CA and Tulelake, CA to review maps and to discuss the proposed action.

The draft environmental impact statement is estimated to be filed with the Environmental Protection Agency (EPA) and to be available for public review by the end of September 2008. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Modoc National Forest participate at that time.

The final EIS is estimated to be completed by December 31, 2008. In the final EIS, the Forest Service will respond to comments received during the comment period that pertain to the environmental consequences discussed in the draft EIS and applicable laws, regulations, and policies considered in making the decision. Submission of comments in response to the draft EIS is a prerequisite for eligibility to appeal under the 36 CFR part 215 regulations.

Comment Requested

This Notice of Intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: May 1, 2008.
Stanley G. Sylva,
Forest Supervisor.

[FR Doc. E8-10235 Filed 5-9-08; 8:45 am]

BILLING CODE 3410-11-P